DEPARTMENT OF ENERGY

Federal Energy Regulatory Commission

[Docket No. AD10-7-000]

ILP Effectiveness Evaluation 2010; Supplemental Notice of Multi-Stakeholder Technical Conference on the Integrated Licensing Process

September 14, 2010.

As announced in the May 18, 2010, “Notice of Interviews, Teleconferences, Regional Workshops and Multi-Stakeholder Technical Conference on the Integrated Licensing Process,” a technical conference will be held on November 3, 2010, from 11 a.m. (EST) to 3 p.m (EST) in the Commission Meeting Room at the Federal Energy Regulatory Commission, 888 First Street, NE., Washington, DC 20426. The conference will be open to the public, and all interested parties are invited to attend and participate. To ensure adequate materials are available, please register to attend the technical conference by e-mailing Stephanie Obadia at sobadia@kearnswest.com by October 29, 2010.

The purposes of the technical conference are to: (1) Share what we heard about experiences learned from implementing the Integrated Licensing Process (ILP); (2) build on the feedback gathered through personal interviews, by-sector teleconferences, and regional workshops; and (3) identify what works and explore ideas/solutions to better implement the ILP within the framework of the existing regulations. The conference will provide an opportunity for industry, state and Federal agencies, tribes, and other stakeholders to express their views and suggestions for implementing the ILP.

A free webcast of this event is available through http://www.ferc.gov. Anyone with Internet access who desires to listen to this event can do so by navigating to the Calendar of Events at http://www.ferc.gov and locating this event in the Calendar. The event will contain a link to its webcast. The Capitol Connection provides technical support for webcasts and offers the option of listening to the conference via phone-bridge for a fee. If you have any questions, visit http://www.CapitolConnection.org or call (703) 993-3100.

Anyone without internet access can view the conference via television from one of the Commission's regional offices. For building security access reasons, please call or e-mail the following staff by October 28, 2010 to make arrangements. Seating capacity is limited.

Regional office | Staff contact | Telephone No. | E-mail address
Atlanta | Charles Wagner | (678) 245-3065 | charles.wagner@ferc.gov
Chicago | Peggy Harding | (312) 596-4438 | peggy.harding@ferc.gov
New York | Peter Valeri | (212) 273-5930 | peter.valeri@ferc.gov
Portland | Patrick Regan | (503) 552-2741 | patrick.regan@ferc.gov
San Francisco | Wing Lee | (415) 369-3390 | wing.lee@ferc.gov

This conference will be transcribed. Transcripts of the conference will be immediately available for a fee from Ace-Federal Reporters, Inc. (202) 347-3700 or (800) 336-6646.

Commission conferences are accessible under section 508 of the Rehabilitation Act of 1973. For accessibility accommodations, please send an e-mail to accessibility@ferc.gov or call toll free (866) 208-3372 (voice) or (202) 208-8659 (TTY), or send a FAX to (202) 208-2106 with the required accommodations.

Those who wish to file written comments may do so in paper format or electronically by December 3, 2010. Comments may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426. Paper filings should, at the top of the first page, refer to Docket No. AD10-7-000.

All comments will be placed in the Commission's public files and will be available for inspection in the Commission's Public Reference Room at 888 First Street, NE., Washington DC 20426, during regular business hours. Additionally, all comments may be viewed on the Commission's Web site at http://www.ferc.gov using the “eLibrary” link. For assistance, call toll free 1-866-208-3676, or for TTY 202-502-8659, or by e-mail to FERCOnlineSupport@ferc.gov.

For more information about this conference, please contact David Turner at (202) 502-6091 or david.turner@ferc.gov.

Kimberly D. Bose,
Secretary.

[FR Doc. 2010-23596 Filed 9-21-10; 8:45 am]

BILLING CODE 6717-01-P